FEDERAL COMMUNICATIONS COMMISSION

47 CFR Part 25

[IB Docket 98-21; FCC 02-110]

Policies and Rules for the Direct Broadcast Satellite Service; Correction

AGENCY: Federal Communications Commission.

ACTION: Correcting amendments.

SUMMARY: This document contains a correction to final regulations which were published Wednesday, August 7, 2002 (67 FR 51110). The regulations relates to Policy and Rules for the Direct Broadcast Satellite Service.

DATES: Effective June 25, 2003.

FOR FURTHER INFORMATION CONTACT: Selina Y. Khan, Attorney Advisor, Satellite Division, International Bureau, telephone (202) 418-7282 or via the Internet at skhan@fcc.gov.

SUPPLEMENTARY INFORMATION:

Background

The final rule document published on Wednesday, August 7, 2002 publishes 47 CFR 25.114 by adding paragraph (c)(22) instead of paragraph (c)(23).

Need for Correction

As published, the final regulations contain an error which may prove to be misleading and are in need of clarification.

List of Subjects in 47 CFR Part 25

Satellites.

Federal Communications Commission.
Marlene H. Dortch,
Secretary.

Accordingly, 47 CFR part 25 is corrected by making the following correcting amendments:

PART 25—SATELLITE COMMUNICATIONS

1. The authority citation for part 25 continues to read as follows:

Authority: U.S.C. 701744. Interprets or applies 47 U.S.C. 51, 154, 302, 303, and 307, unless otherwise noted.

§ 25.114 [Amended]

2. Amend § 25.114 by redesignating the second paragraph (c)(22) as paragraph (c)(23).

[FR Doc. 03-15963 Filed 6-24-03; 8:45 am]

BILLING CODE 6712-01-P